Title 3—

The President

Proclamation 7891 of April 29, 2005

Law Day, U.S.A., 2005

By the President of the United States of America

A Proclamation

The American legal system helps preserve our constitutional principles and ensures justice for all our citizens. As we celebrate Law Day, we recognize our Nation's commitment to the rule of law and the rights and privileges that all Americans share.

President Eisenhower established Law Day in 1958 to pay tribute to our heritage of liberty, justice, and equality under the law. Each year on Law Day, we recognize our Nation's commitment to a fair legal system and to protecting the rights and freedoms we cherish.

The theme of this year's Law Day, “The American Jury: We the People in Action,” recognizes the imperative of self-government and the necessity of individuals' participation in the judicial process. By taking time away from their day-to-day responsibilities to serve on juries, Americans demonstrate their commitment to good citizenship and their willingness to uphold the laws of our Nation.

Since our founding, the jury has been a fundamental institution in American law and a pillar of our democracy. As we celebrate Law Day this year, we honor the continued role of the jury as a foundation of our legal system, and express our appreciation to all Americans who serve on juries.

NOW, THEREFORE, I, GEORGE W. BUSH, President of the United States of America, in accordance with Public Law 87-20, as amended, do hereby proclaim May 1, 2005, as Law Day, U.S.A. I also encourage Americans to observe May 1 through May 7, 2005, as National Juror Appreciation Week. I call upon the people of the United States to acknowledge the importance of our Nation's legal and judicial systems with appropriate ceremonies and activities, and to display the flag of the United States in support of this national observance.

IN WITNESS WHEREOF, I have hereunto set my hand this twenty-ninth day of April, in the year of our Lord two thousand five, and of the Independence of the United States of America the two hundred and twenty-ninth.

B

[FR Doc. 05-9031

Filed 5-3-05; 8:48 am]

Billing code 3195-01-P